DEPARTMENT OF LABOR

Employment and Training Administration

[TA-W-82,442]

Deluxe Laboratories, Inc., a Division of Deluxe Entertainment Services Group, Inc. Hollywood, California; Notice of Revised Determination on Reconsideration

On July 23, 2013, the Department of Labor (Department) issued a Notice of Affirmative Determination Regarding Application for Reconsideration applicable to workers and former workers of Deluxe Laboratories, Inc., a division of Deluxe Entertainment Services Group, Inc., Hollywood, California (hereafter referred to as either “Deluxe Laboratories, Inc.” or “subject firm”). The subject firm is engaged in activities related to the production of release and trailer film prints. The worker group does not include leased workers.

Workers of the subject firm were previously eligible to apply for Trade Adjustment Assistance (TAA) under TA-W-74,636 (certification expired on October 14, 2012).

Based on a careful review of previously-submitted information and additional information obtained during the reconsideration investigation, the Department determines that the petitioning worker group has met the eligibility criteria set forth in the Trade Act of 1974, as amended.

Section 222(b)(1) has been met because a significant number or proportion of the workers at Deluxe Laboratories, Inc. have become totally or partially separated, or are threatened to become totally or partially separated.

Section 222(b)(2) has been met because workers of Deluxe Laboratories, Inc. is a Downstream Producer to a firm (or subdivision, whichever is applicable) that employed a group of workers who received a certification of eligibility under Section 222(a) of the Act, 19 U.S.C. 2272(a), and such production is related to the actual finished article or service that was the basis for such certification.

Section 222(b)(3)(B) has been met because the loss of business by Deluxe Laboratories, Inc. with the aforementioned firm contributed importantly to worker separations at the subject firm.

Conclusion

After careful review of previously-submitted facts and the additional facts obtained during the reconsideration investigation, I determine that workers of Deluxe Laboratories, Inc., a division of Deluxe Entertainment Services Group, Inc., Hollywood, California, meet the worker group certification criteria under Section 222(b) of the Act, 19 U.S.C. 2272(b). In accordance with Section 223 of the Act, 19 U.S.C. 2273, I make the following certification:

“All workers of Deluxe Laboratories, Inc., a division of Deluxe Entertainment Services Group, Inc., Hollywood, California, who became totally or partially separated from employment on or after October 15, 2012, through two years from the date of this certification, and all workers in the group threatened with total or partial separation from employment on date of certification through two years from the date of certification, are eligible to apply for adjustment assistance under Chapter 2 of Title II of the Trade Act of 1974, as amended.”

Signed in Washington, DC, this 8th day of November, 2013
Del Min Amy Chen,
Certifying Officer, Office of Trade Adjustment Assistance.

[FR Doc. 2013-28333 Filed 11-25-13; 8:45 am]

BILLING CODE 4510-FN-P